ENVIRONMENTAL PROTECTION AGENCY

40 CFR Part 52

[EPA-R01-OAR-2008-0905; A-1-FRL-9439-5]

Approval and Promulgation of Air Quality Implementation Plans; Vermont; Reasonably Available Control Technology (RACT) for the 1997 8-Hour Ozone Standard

AGENCY: Environmental Protection Agency (EPA).

ACTION: Direct final rule.

SUMMARY: EPA is approving State Implementation Plan (SIP) revisions submitted by the State of Vermont (VT) on November 22, 2006, and November 14, 2008. These SIP revisions consist of a demonstration that VT meets the requirements of reasonably available control technology (RACT) for oxides of nitrogen (NOX) and volatile organic compounds (VOCs) set forth by the Clean Air Act (CAA) with respect to the 1997 8-hour ozone standard; minor revisions to Vermont's bulk gasoline plants regulation; and new requirements for wood furniture manufacturing operations. Additionally, EPA is approving VT's negative declarations for several categories of VOC sources. EPA is fully approving all of the submitted items, with two exceptions. EPA is conditionally approving the RACT determinations for two major VOC sources (Churchill Coatings Corporation and H.B.H. Prestain, Inc.). This action is being taken in accordance with the CAA.

DATES: This direct final rule will be effective September 19, 2011, unless EPA receives adverse comments by August 18, 2011. If adverse comments are received, EPA will publish a timely withdrawal of the direct final rule in the Federal Register informing the public that the rule will not take effect.

ADDRESSES: Submit your comments, identified by Docket ID Number EPA-R01-OAR-2008-0905 by one of the following methods:

1. http://www.regulations.gov: Follow the on-line instructions for submitting comments.

2. E-mail: arnold.anne@epa.gov.

3. Fax: (617) 918-0047.

4. Mail: “Docket Identification Number EPA-R01-OAR-2008-0905”, Anne Arnold, U.S. Environmental Protection Agency, EPA New England Regional Office, 5 Post Office Square, Suite 100 (mail code: OEP05-2), Boston, MA 02109-3912.

5. Hand Delivery or Courier. Deliver your comments to: Anne Arnold, Manager, Air Quality Planning Unit, Office of Ecosystem Protection, U.S. Environmental Protection Agency, EPA New England Regional Office, 5 Post Office Square, 5th Floor, Boston, MA 02109-3912. Such deliveries are only accepted during the Regional Office's normal hours of operation. The Regional Office's official hours of business are Monday through Friday, 8:30 to 4:30, excluding legal holidays.

Instructions: Direct your comments to Docket ID No. EPA-R01-OAR-2008-0905. EPA's policy is that all comments received will be included in the public docket without change and may be made available online at http://www.regulations.gov, including any personal information provided, unless the comment includes information claimed to be Confidential Business Information (CBI) or other information whose disclosure is restricted by statute. Do not submit through http://www.regulations.gov, or e-mail, information that you consider to be CBI or otherwise protected. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at Office of Ecosystem Protection, U.S. Environmental Protection Agency, EPA New England Regional Office, 5 Post Office Square, 5th Floor, Boston, MA. EPA requests that if at all possible, you contact the contact listed in the FOR FURTHER INFORMATION CONTACT section to schedule your inspection. The Regional Office's official hours of business are Monday through Friday, 8:30 to 4:30, excluding legal holidays.

In addition, copies of the state submittal are also available for public inspection during normal business hours, by appointment at the Vermont Air Pollution Control Division, Agency of Natural Resources, Building 3 South, 103 South Main Street, Waterbury, VT 05676.

FOR FURTHER INFORMATION CONTACT: Ariel Garcia, Air Quality Planning Unit, U.S. Environmental Protection Agency, EPA New England Regional Office, 5 Post Office Square, Suite 100 (mail code: OEP05-2), Boston, MA 02109-3912, telephone number (617) 918-1660, fax number (617) 918-0660, e-mail garcia.ariel@epa.gov.

SUPPLEMENTARY INFORMATION: Throughout this document whenever “we,” “us,” or “our” is used, we mean EPA.

Organization of this document. The following outline is provided to aid in locating information in this preamble.

I. Background and Purpose

II. Summary of Vermont's SIP Revision

III. EPA's Evaluation of Vermont's SIP Revision

IV. Final Action

V. Statutory and Executive Order Reviews

I. Background and Purpose

On November 14, 2008, the State of Vermont (VT) submitted a formal revision to its State Implementation Plan (SIP). The SIP revision consists of documenting RACT requirements for the 1997 8-hour ozone standard.¹ Although VT was designated attainment for the 1997 8-hour ozone national ambient air quality standard (NAAQS),² the state is part of the Ozone Transport Region (OTR). On May 10, 2011, VT withdrew portions of the November 14, 2008 submittal as discussed in more detail in section II.

¹ Vermont's submittal and today's action are for the 1997 8-hour ozone standard and do not address the 0.075 ppm 2008 ozone standard.

² See 69 FR 23858; April 30, 2004.

Certain stationary source control measures specified in the Clean Air Act (CAA) as applicable to areas considered “moderate” ozone non-attainment areas also apply to states located in the OTR. Specifically, these areas are required to implement reasonably available control technology (RACT) on all major volatile organic compound (VOC) and nitrogen oxide (NOX) emissions sources and on all sources covered by a Control Techniques Guideline (CTG). A CTG is a document issued by EPA which establishes a “presumptive norm” for RACT for a specific VOC source category.

In 1997, EPA revised the health-based NAAQS for ozone, setting it at 0.08 parts per million (ppm) averaged over an 8-hour time frame. EPA set the 8-hour ozone standard based on scientific evidence demonstrating that ozone causes adverse health effects at lower ozone concentrations and over longer periods of time than was understood when the pre-existing 1-hour ozone standard was set. EPA determined that the 8-hour standard would be more protective of human health, especially with regard to children and adults who are active outdoors, and individuals with a pre-existing respiratory disease, such as asthma.

EPA requires under the 8-hour ozone NAAQS that states meet the CAA RACT requirements, either through a certification that previously adopted RACT controls in their SIP approved by EPA under the 1-hour ozone NAAQS represent adequate RACT control levels for 8-hour attainment purposes, or through the establishment of new or more stringent requirements that represent RACT control levels. See Final Rule To Implement the 8-Hour Ozone National Ambient Air Quality Standard—Phase 2 (the Phase 2 rule). (See 70 FR 71612; November 29, 2005.) EPA has determined that States that have RACT provisions approved in their SIPs for the 1-hour ozone standard have several options for fulfilling the RACT requirements for the 8-hour ozone NAAQS. If a State meets certain conditions, it may certify that previously adopted 1-hour ozone RACT controls in the SIP continue to represent RACT control levels for purposes of fulfilling 8-hour ozone RACT requirements. Alternatively, a State may establish new or more stringent requirements that represent RACT control levels, either in lieu of or in conjunction with a certification. In addition, a State may submit a negative declaration if there are no CTG sources or major sources of VOC and NOx emissions in lieu of or in addition to a certification.

As noted in the Phase 2 rule, the RACT submittal for the 1997 8-hour ozone standard was due from states in the OTR on September 16, 2006. (See 40 CFR 51.916(b)(2).) On March 24, 2008 (73 FR 15416), EPA issued a finding of failure to submit to VT for the 1997 8-hour ozone RACT requirement. Vermont submitted its RACT SIP revision on November 14, 2008, and EPA determined it complete on December 10, 2008, stopping the 18-month finding sanctions clock.

In addition, on October 5, 2006, EPA issued four CTGs which states were required to address by October 5, 2007 (71 FR 58745). Also, on October 9, 2007, EPA issued three CTGs which states were required to address by October 9, 2008 (72 FR 57215). Furthermore, on October 7, 2008, EPA issued four CTGs which states were required to address by October 7, 2009 (73 FR 58841).

In addition, on November 22, 2006, VT submitted newly adopted regulation 5-253.16, Wood Furniture Manufacturing, to EPA as a SIP revision. This regulation includes VOC emission limits for wood furniture manufacturing operations. In addition to this regulation, the SIP submittal also includes revisions to VT's “SIP Narrative,” which contains additional information on how the state implements this rule.

II. Summary of Vermont's SIP Revision

On November 14, 2008, VT submitted a SIP revision documenting RACT requirements for the 1997 8-hour ozone standard. In this SIP revision, VT states that this submittal demonstrates and/or certifies the following with respect to Vermont stationary sources of ozone precursors:

1. All required RACT controls, both CTGs and Major Sources, have been implemented on all relevant stationary sources of VOCs and NOx emissions;

2. All applicable CTG RACT controls required to be submitted under the current RACT SIP call (applicable to CTGs issued prior to 2006) have been previously approved by EPA under the 1-hour ozone NAAQS; and

3. All previously EPA-approved RACT controls, including CTGs issued prior to 2006 and previously submitted Single Source RACT determinations, as well as newly determined Single Source RACT applied to other Major Sources have been certified by the Vermont Air Pollution Control Officer, based on EPA's guidance and standards, to represent RACT control levels under the new 8-hour ozone NAAQS.

The submittal also states that it is the Vermont Air Pollution Control Officer's determination that the Vermont Air Pollution Control rules applicable to the following nine CTG categories, which have been approved and/or are pending approval as RACT for the 1-hour ozone standard, also represent RACT for the 8-hour ozone standard, including any subsequent revisions to the ozone standard that maintain an 8-hour averaging period: (1) Design Criteria for Stage 1 Vapor Control Systems—Gasoline Service Stations (November 1975, no EPA number) and Hydrocarbon Control Strategies for Gasoline Marketing Operations (April 1978, EPA450/3-78-017; (2) Control of Volatile Organic Emissions from Solvent Metal Cleaning (November 1977, EPA-450/2-77-022); (3) Control of Hydrocarbons from Tank Truck Gasoline Loading Terminals (October 1977, EPA-450/2-77-026); (4) Control of Volatile Organic Emissions from Bulk Gasoline Plants (December 1977, EPA-450/2-77-035); (5) Control of Volatile Organic Emissions from Storage of Petroleum Liquids in Fixed-Roof Tanks (December 1977, EPA-450-2-77-036); (6) Control of Volatile Organic Compounds from Use of Cutback Asphalt (December 1977, EPA-450/2-77-037); (7) Control of Volatile Organic Emissions from Existing Stationary Sources, Volume VI: Surface Coating of Miscellaneous Metal Parts and Products (June 1978, EPA-450/2-78-032); (8) Control of Volatile Organic Compounds Leaks from Gasoline Tank Trucks and Vapor Collection Systems (December 1978, EPA-450/2-78-051); and (9) Control of Volatile Organic Compound Emissions from Wood Furniture Manufacturing Operations (April 1996, EPA-453/R-96-007). The Vermont Air Pollution Control Regulations (VAPCR) that cover these CTGs are, respectively: (1) VAPCR Section 5-253.5, Stage I Vapor Recovery Controls at Gasoline Dispensing Facilities; 2) VAPCR Section 5-253.14, Solvent Metal Cleaning; (3) VAPCR Section 5-253.2, Bulk Gasoline Terminals; (4) VAPCR Section 5-253.3, Bulk Gasoline Plants; (5) VAPCR Section 5-253.1, Petroleum Liquid Storage in Fixed Roof Tanks; (6) VAPCR Section 5-253.15, Cutback and Emulsified Asphalt; (7) VAPCR Section 5-253.13, Coating of Miscellaneous Metal Parts; (8) VAPCR Section 5-253.4, Gasoline Tank Trucks; and (9) VAPCR Section 5-253.16, Wood Furniture Manufacturing. All of these Vermont regulations, with one exception, were approved into the Vermont SIP on April 22, 1998 (63 FR 19825). The Vermont wood furniture manufacturing regulation is being approved into the VT SIP in this rulemaking.

The SIP submittal also states that the State of Vermont Air Pollution Control Division has determined that there are no applicable stationary sources of VOC in Vermont, for the following CTG categories identified by EPA in CTG documents issued prior to 2006:

1. Surface Coating Operations (November 1976, EPA-450-2-76-028)

2. Surface Coating of Cans (May 1977, EPA-450/2-77-008)

3. Surface Coating of Coils (May 1977, EPA-450/2-77-008)

4. Surface Coating of Fabrics (May 1977, EPA-450/2-77-008)

5. Surface Coating of Paper (May 1977, EPA-450/2-77-008)

6. Surface Coating of Automobiles and Light Duty Trucks (May 1977, EPA-450/2-77-008)

7. Refinery Vacuum Producing Systems, Wastewater Separators, and Process Unit Turnarounds (October 1977, EPA-450/2-77-025)

8. Surface Coating of Metal Furniture (December 1977, EPA-450/2-77-032)

9. Surface Coating for Insulation of Magnet Wire (December 1977, EPA-450/2-77-033)

10. Surface Coating of Large Appliances (December 1977, EPA-450/2-77-034)

11. Factory Surface Coating of Flat Wood Paneling (June 1978, EPA-450/2-78-032)

12. Petroleum Refinery Equipment (June 1978, EPA-450/2-78-036)

13. Manufacture of Vegetable Oils (June 1978, EPA-450/2-78-035)

14. Manufacture of Synthesized Pharmaceutical Products (December 1978, EPA-450/2-78-029)

15. Manufacture of Pneumatic Rubber Tires (December 1978, EPA-450/2-78-030)

16. Graphic Arts-Rotogravure and Flexography (December 1978, EPA-450/2-78-033)

17. Petroleum Liquid Storage in External Floating Roof Tanks (December 1978, EPA-450/2-78-047)

18. Large Petroleum Dry Cleaners (September 1982, EPA-450/3-82-009)

19. Manufacture of High-Density Polyethylene, Polypropylene, and Polystyrene Resins (November 1983, EPA-450/3-83-008)

20. Equipment Leaks from Natural Gas/Gasoline Processing Plants (December 1983, EPA-450/2-83-007)

21. Leaks from Synthetic Organic Chemical and Polymer Manufacturing Equipment (March 1984, EPA-450/3-83-006)

22. Air Oxidation Processes in Synthetic Organic Chemical Manufacturing Industry (December 1984, EPA-450/3-84-015)

23. Reactor Processes and Distillation Operations Processes in the Synthetic Organic Chemical Manufacturing Industry (August 1993, EPA-450/4-91-031)

24. Shipbuilding and Ship Repair Operations (Surface Coating) (April 1994, EPA-453/R-94-032)

25. Coating Operations at Aerospace Manufacturing and Rework Operations (December 1997, EPA-453/R-97-004)

In addition, the SIP submittal also states that the State of Vermont Air Pollution Control Division has also determined that there are no applicable stationary sources of VOC in Vermont for the following CTG categories identified by EPA in CTG documents issued since 2005:

1. Flat Wood Paneling Coatings (September 2006, EPA-453/R-06-004) ³

³ The negative declaration for the Flat Wood Paneling Coatings (September 2006, EPA-453/R-06-004) CTG was subsequently withdrawn on May 10, 2011.

2. Flexible Package Printing (September 2006, EPA-453/R-06-003)

3. Paper, Film, and Foil Coatings (September 2007, EPA-453/R-07-003)

4. Metal Furniture Coatings (September 2007, EPA-453/R-07-005)

5. Large Appliance Coatings (September 2007, EPA-453/R-07-004)

In addition to the items discussed above, the November 14, 2008 SIP submittal also includes minor changes to two of VT's regulations previously approved into the VT SIP.

Specifically, Subsection (3) of regulation 5-251, Control of Nitrogen Oxides Emissions: RACT for large stationary sources, is being submitted with no changes to the regulatory text. This subsection of VT's regulation was previously approved into the VT SIP as 5-251(2) on April 9, 1997 (62 FR 17084). Due to the adoption of a new subsection in VT's regulation and the resulting numbering changes, the appropriate number change will be made to regulation 5-251(3) and the subsection is being approved into the VT SIP. VT's new regulation subsection 5-251(2) is not being submitted for inclusion in the VT SIP.

Also, regulation 5-253.3, Bulk Gasoline Plants, is being submitted with minor changes to the regulatory text. This regulation was previously approved into the VT SIP on April 22, 1998 (63 FR 19825). The most significant change to VT's adopted revised regulation 5-253.3 is in the regulation's applicability; that is, the revised regulation requires all bulk gasoline plants, for which construction or reconstruction commenced after January 1, 2001, to be subject to the regulation regardless of gasoline throughput. The revised regulation submitted for inclusion into the VT SIP clarified several requirements in the rule related to vapor balance but did not substantively change the requirements of the rule.

Furthermore, Vermont's November 14, 2008 SIP submittal included licenses for four facilities subject to major source VOC requirements and licenses for three facilities subject to major source NOX requirements. On May 10, 2011, VT withdrew one of the VOC licenses (Green Mountain Prestain) and one of the NOX licensees (Dalton Hydro), since these two facilities have closed and their operating permits have been terminated. In addition, VT's May 10, 2011 letter includes a written commitment from VT to re-evaluate RACT for two of the major source facilities subject to VOC requirements, namely Churchill Coatings Corporation and H.B.H. Prestain, Inc., as a result of the RACT limits being established for these two facilities prior to the issuance of the 2006 revised CTG for Flat Wood Paneling Coatings (September 2006, EPA-453/R-06-004).

In addition, on November 22, 2006, VT submitted newly adopted regulation 5-253.16, Wood Furniture Manufacturing, to EPA as a SIP revision. This regulation includes VOC emission limits for wood furniture manufacturing operations. In addition to this regulation, the SIP submittal also includes revisions to VT's “SIP Narrative,” which contains additional information on how the state implements this rule.

III. EPA'S Evaluation of Vermont's SIP Revision

EPA has evaluated VT's VOC and NOX regulations which the state certifies meets RACT for the 1997 8-hour standard, and has found that they are generally consistent with the respective EPA guidance documents referenced above. EPA previously approved these rules, with the exception of the wood furniture manufacturing regulation, as meeting RACT for the 1-hour standard. (See 62 FR 17084 and 63 FR 19825.)

VT's newly adopted wood furniture manufacturing regulation, submitted on November 22, 2006, requires facilities, which have allowable emissions of 25 tons per year or more of VOC emissions, to meet specified VOC content limits for the topcoats and sealers used in finishing operations. EPA has evaluated Vermont's rule with respect to EPA's wood furniture manufacturing CTG (referenced above) and has found that this rule, when taken along with the test methods, calculation procedures, record keeping, and monitoring requirements in the SIP narrative, is consistent with EPA guidance.⁴

⁴ Note that section 5-253.16(e)(1)(iv) of Vermont's regulation provides for the Vermont ANR to approve compliance plans that rely exclusively on compliance methods already specified in the regulation in sections 5-253.16(e)(1)(i)-(iii). This provision does not allow for equivalency demonstrations using methods not already provided for in the regulation.

EPA has also evaluated the NOX permits for Killington/Pico Ski Resort Partners, LLC and Okemo Limited Liability Company and the VOC permit for Isovolta, Inc. that were included in this submittal and has found that they are consistent with EPA guidance for major stationary sources of NOX and VOC. For NOX guidance, see control technique document EPA-450/1-78-001, January 1978, and for VOC guidance, see EPA-450/2-78-022, May 1978, and EPA-453/R-95-010, April 1995. EPA has also evaluated two additional permits for major stationary sources of VOC (permits submitted for Churchill Coatings Corporation; and H.B.H. Prestain, Inc.) that were included in this submittal and has found that they are SIP strengthening but are not consistent with the limits established in the 2006 Flat Wood Paneling Coatings CTG. As a result, EPA is conditionally approving the submitted permits for Churchill Coatings Corporation and H.B.H. Prestain, Inc. A brief description of the type of facility, what has been determined as RACT for the facility, and EPA's reasoning for approval, or conditional approval, of such RACT determination, for each of the five permits is as follows:

1. The Killington/Pico Ski Resort Partners, LLC operating permit covers the snowmaking operations at the Killington and Pico ski resorts. The air pollution sources at the facility consist of diesel powered air compressors for snowmaking operations. With the exception of one engine (unit BR11), the permit requires the replacement of all diesel powered air compressor engines, by July 1, 2007, with the cleanest air pollution emitting engines reasonably available at the time of replacement. The replacement engine cannot have a higher horsepower rating than the engine which it is replacing, and must meet emission limits established by the operating permit. Unit BR11 operates with a Selective Catalytic Reduction (SCR) system designed and operated to achieve a minimum of 70% reduction in NOX emissions. The permit requires the Unit BR11 to meet emissions limits (after emissions controls) consistent with federal Tier 2 nonroad diesel engine emission standards. The permit also requires the replacement diesel powered air compressor engines to meet emissions limits consistent with federal Tier 2 or Tier 3 nonroad diesel engine emission standards, depending on the date of replacement. The permit also establishes operational limits on the sulfur content of the fuel oil and limits the annual fuel allowed to be consumed by the stationary diesel engine units. The provisions in this operating permit submitted into the VT SIP constitute RACT.

2. The Okemo Limited Liability Company operating permit covers the snowmaking operations at the Okemo ski resort. The air pollution sources at the facility consist of diesel powered air compressors for snowmaking operations and diesel engine generators utilized for generating electricity for snowmaking operations. The facility owns one diesel-powered compressor utilized for generating compressed air for snowmaking operations, has two rental diesel engine generators utilized for generating electricity, and leases 20 diesel-powered compressors utilized for generating compressed air for snowmaking operations. The permit requires the diesel-powered compressor owned by the facility (Caterpillar 3516) to operate on a combination of emission control technologies. Caterpillar 3516 operates with a SCR system and an oxidation catalyst that jointly achieve over 90% reduction in NOX emissions. The permit requires the Caterpillar 3516 to meet emissions limits (after emissions controls) as stringent as federal Tier 4 nonroad diesel engine emission standards that will be imposed on engines beginning with model year 2011 nonroad diesel engines. The emissions reductions obtained by the Caterpillar 3516, make up for the fact that the two rental units are held to emission limits which are more relaxed than the federal Tier 2 nonroad diesel engine emission standards, for the first two years following the issuance of the operating permit (after which time, the rental units are required to meet emissions limits as stringent as the federal Tier 2 standards). All of the leased diesel engines operated at the facility are required to meet at a minimum the federal Tier 2 nonroad diesel engine emission standards. The permit also establishes operational limits on the sulfur content of the fuel oil, limits the annual fuel allowed to be consumed by the stationary diesel engine units, limits the total capacity of engines operated at the facility for generating electricity and compressed air for snowmaking operations, and limits the hours that each type of engine can be in operation. The provisions in this operating permit submitted constitute RACT.

3. The Isovolta, Inc. (formerly U.S. Samica, Inc.) operating permit covers the insulation paper manufacturing facility in Rutland, VT. On April 9, 1997 (see 62 FR 17084), EPA approved an administrative order for this facility (at that time under U.S. Samica Corporation) which required the use of incineration control devices, which achieve an 81% overall VOC control, on two of their process lines. The administrative order also contained enforceable emissions testing, monitoring, recordkeeping, and reporting requirements. These same conditions are included in the operating permit in VT's November 14, 2008 submittal. The 81% reduction requirement is consistent with EPA's model regulation for VOC sources (See “Model Volatile Organic Compound Rules for Reasonably Available Control Technology”, EPA-Staff Working Document, June 1992). Therefore, EPA is approving the Isovolta, Inc. operating permit as continuing to meet VOC RACT requirements for this facility.

4. The Churchill Coatings Corporation operating permit covers the clapboard painting facility (previously owned by Prestained Lumber Products, Inc.) in North Springfield, VT. The facility consists of two roll coating lines to prime and paint a variety of lumber products. The non-CTG regulation approved by EPA on April 9, 1997 (see 62 FR 17084), defines RACT for coating units as a daily weighted average of VOC content in the coatings of 3.5 pounds of VOC per gallon of coating applied. The operating permit requires the facility to meet the 3.5 pounds of VOC per gallon of coating emission limit and also includes the associated recordkeeping and testing requirements to ensure compliance with these limits. The 3.5 pounds of VOC per gallon of coating emission limit is consistent with EPA's guidance for VOC sources (See “Model Volatile Organic Compound Rules for Reasonably Available Control Technology”, EPA-Staff Working Document, June 1992). However, the RACT determination for some of the operations at this facility must address whether and how the facility can meet the recommended limits for Exterior Siding, specifically 2.1 pounds of VOC per gallon of coating, included in the 2006 Flat Wood Paneling Coatings (September 2006, EPA-453/R-06-004) CTG. Therefore, EPA finds that the VOC limits in the Churchill Coatings Corporation operating permit are SIP-strengthening but do not constitute a complete RACT determination for this facility and is conditionally approving this operating permit into the VT SIP.

5. The H.B.H. Prestain, Inc. operating permit covers the clapboard painting facility in East Arlington, VT. The facility consists of four roll coating lines to prime, paint, and/or stain wooden clapboards, trim boards, and various other building siding products. The VOC coating limits established by this operating permit are also consistent with what has been determined as RACT in the April 9, 1997 (see 62 FR 17084) EPA rulemaking. Specifically, the four coating lines are required to meet a 3.5 pounds of VOC per gallon of coating emission limit. The permit also includes the associated recordkeeping and testing requirements to ensure this limit is enforceable. As noted previously, this emission limit is consistent with EPA's guidance for VOC sources (See “Model Volatile Organic Compound Rules for Reasonably Available Control Technology”, EPA-Staff Working Document, June 1992). However, the RACT determination for some of the operations at this facility must address whether and how the facility can meet the recommended limits for Exterior Siding, specifically 2.1 pounds of VOC per gallon of coating, included in the 2006 Flat Wood Paneling Coatings (September 2006, EPA-453/R-06-004) CTG. Therefore, EPA finds that the VOC limits in the H.B.H. Prestain, Inc. operating permit are SIP-strengthening but do not constitute a complete RACT determination for this facility and is conditionally approving this operating permit into the VT SIP.

With respect to the CTGs issued in 2006 and later, VT has submitted negative declarations for four of these 11 CTGs. The state must still address the remaining seven CTGs.

IV. Final Action

EPA is approving State Implementation Plan (SIP) revisions submitted by the State of Vermont on November 14, 2008, and November 22, 2006. EPA is approving Vermont's November 14, 2008 RACT certification and negative declarations as meeting RACT for the 1997 8-hour standard. EPA is also approving the following permits conditions ⁵ as representing RACT for the applicable sources and incorporating these conditions into the SIP:

⁵ EPA is approving all of the permit conditions that Vermont included in its SIP submittal. Other conditions that are included in the facility's permit, but not listed here, were not submitted by Vermont as part of the SIP revision.

• Isovolta Inc. (Formerly U.S. Samica, Inc.) Operating Permit RACT provisions Construction and Equipment Specifications (2), Operational Limitations (5), Emission Limitations (9) and (17), and Continuous Temperature Monitoring Systems (19) through (21);

• Killington/Pico Ski Resort Partners, LLC. Operating Permit RACT provisions Construction and Equipment Specifications (3) through (7), Operational Limitations (8) and (10), Emission Limitations (14) through (16), Compliance Testing and Monitoring (23) and (24), Recordkeeping and Reporting (25), (27) and (33), and Appendix A; and

• Okemo Limited Liability Company Operating Permit RACT provisions Construction and Equipment Specifications (2), Operational Limitations (5) through (7) and (9) through (11), Emission Limitations (14) through (16), Compliance Testing and Monitoring (23) and (24), and Recordkeeping and Reporting (25), (26), (31), and (32).

EPA is also approving into the VT SIP revised regulation 5-253.3 “Bulk Gasoline Plants,” revised regulation 5-251(3) “Control of Nitrogen Oxides Emissions: RACT for large stationary sources,” as well as the newly submitted regulation 5-253.16 “Wood Furniture Manufacturing,” along with the associated revisions to the VT SIP narrative.

In addition, EPA is conditionally approving the following permits conditions as SIP-strengthening, but not completely fulfilling the RACT requirements for the applicable sources, and incorporating these conditions into the SIP:

• Churchill Coatings Corporation Operating Permit RACT conditions Emission Limitations (3) through (6) and (11), and Record Keeping and Reporting (14) through (16); and

• H.B.H Prestain, Inc. Operating Permit RACT provisions Emission Limitations (4) through (8), and (13), and Recordkeeping and Reporting (16) through (18).

The State of Vermont must submit to EPA by July 19, 2012, re-evaluated RACT determinations for Churchill Coatings Corporation and H.B.H Prestain. These RACT determinations must include an evaluation of the feasibility of the emission limits in the 2006 flat wood paneling CTG for these two facilities. If VT fails to do so, this conditional approval will become a disapproval on that date. EPA will notify VT by letter that this action has occurred. At that time, this commitment will no longer be a part of the approved VT SIP. EPA subsequently will publish a notice in the notice section of the Federal Register notifying the public that the conditional approval automatically converted to a disapproval. If VT meets its commitment, within the applicable time frame, the conditionally approved portion of the submittal will remain a part of the SIP until EPA takes final action approving or disapproving the new submittal. If EPA approves the new submittal, the new approval will replace the conditionally approved operating permit sections in the VT SIP.

If the conditional approval is converted to a disapproval, such action will trigger EPA's authority to impose sanctions under section 110(m) of the CAA at the time EPA issues the final disapproval or on the date VT fails to meet its commitment. In the latter case, EPA will notify VT by letter that the conditional approval has been converted to a disapproval and that EPA's sanctions authority has been triggered. In addition, the final disapproval triggers the Federal Implementation Plan (FIP) requirement under section 110(c).

The EPA is publishing this action without prior proposal because the Agency views this as a noncontroversial amendment and anticipates no adverse comments. However, in the proposed rules section of this Federal Register publication, EPA is publishing a separate document that will serve as the proposal to approve the SIP revision should relevant adverse comments be filed. This rule will be effective September 19, 2011 without further notice unless the Agency receives relevant adverse comments by August 18, 2011.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on September 19, 2011 and no further action will be taken on the proposed rule. Please note that if EPA receives adverse comment on an amendment, paragraph, or section of this rule and if that provision may be severed from the remainder of the rule, EPA may adopt as final those provisions of the rule that are not the subject of an adverse comment.

In addition, Vermont was issued a finding a failure to submit which started an 18 month sanctions clock and a 24 month Federal Implementation Plan (FIP) clock. The 18 month sanctions clock was stopped when Vermont submitted the SIP and we determined it complete on December 10, 2008. The 24 month FIP clock will stop upon the effective date of our final approval, September 19, 2011.

V. Statuatory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 19, 2011. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Nitrogen dioxide, Ozone, Reporting and recordkeeping requirements, Volatile organic compounds.

Dated: June 28, 2011.
H. Curtis Spalding,
Regional Administrator, EPA New England.

Part 52 of chapter I, title 40 of the Code of Federal Regulations is amended as follows:

PART 52—[AMENDED]

1. The authority citation for part 52 continues to read as follows:

Authority: 42 U.S.C. 7401 et seq.

Subpart UU—Vermont

2. In § 52.2370, Table (c) is amended by revising two entries and adding an entry; and Tables (d) and (e) are amended by adding the following entries:

§ 52.2370 Identification of plan.

* * * * *

(c) EPA approved regulations.

EPA-Approved Vermont Regulations
Vermont Air Pollution Control Regulation (VAPCR) State citation | Title/Subject | State effective date | EPA Approval date | Explanations
* * * * * * *
5-251 | Control of Nitrogen Oxides Emissions: RACT for large stationary sources | 4/27/07 | 7/19/2011 [Insert Federal Register page number where the document begins] | Changes to numbering of RACT-related subsections of regulation. The state did not submit Subsection 5-251(2) as part of the SIP revision.
* * * * * * *
5-253.3 | Bulk Gasoline Plants | 4/27/07 | 7/19/2011 [Insert Federal Register page number where the document begins] | Changes to bulk gasoline plants regulation.
* * * * * * *
5-253.16 | Wood Furniture Manufacturing | 3/1/04 | 7/19/2011 [Insert Federal Register page number where the document begins] | Adopted regulation establishing wood furniture manufacturing requirements.
* * * * * * *

(d) EPA-Approved State Source specific requirements.

EPA-Approved Vermont Source Specific Requirements
Name of source | Permit No. | State effective date | EPA Approval date | Explanations
* * * * * * *
Isovolta Inc. (Formerly U.S. Samica, Inc.) Operating Permit RACT provisions | OP-95-040 | 1/06/2006 | 7/19/2011 [Insert Federal Register page number where the document begins] | Only these sections were submitted by VT and approved into the SIP: Permit Conditions: Construction and Equipment Specifications (2), Operational Limitations (5), Emission Limitations (9) and (17), and Continuous Temperature Monitoring Systems (19) through (21).
Churchill Coatings Corporation Operating Permit RACT conditions | AOP-06-040 | 2/06/2008 | 7/19/2011 [Insert Federal Register page number where the document begins] | Only these sections were submitted by VT and conditionally approved into the SIP: Emission Limitations (3) through (6) and (11), and Record Keeping and Reporting (14) through (16).
Killington/Pico Ski Resort Partners, LLC. Operating Permit RACT provisions | AOP-04-025a | 6/14/2007 | 7/19/2011 [Insert Federal Register page number where the document begins] | Only these sections were submitted by VT and approved into the SIP: Construction and Equipment Specifications (3) through (7), Operational Limitations (8) and (10), Emission Limitations (14) through (16), Compliance Testing and Monitoring (23) and (24), Recordkeeping and Reporting (25), (27), and (33), and Appendix A.
Okemo Limited Liability Company Operating Permit RACT provisions | AOP-04-029 | 2/26/2006 | 7/19/2011 [Insert Federal Register page number where the document begins] | Only these sections were submitted by VT and approved into the SIP: Construction and Equipment Specifications (2), Operational Limitations (5) through (7) and (9) through (11), Emission Limitations (14) through (16), Compliance Testing and Monitoring (23) and (24), and Recordkeeping and Reporting (25), (26), (31), and (32).
H.B.H Prestain, Inc. Operating Permit RACT provisions | AOP-03-009 | 2/06/2008 | 7/19/2011 [Insert Federal Register page number where the document begins] | Only these sections were submitted by VT and conditionally approved into the SIP: Emission Limitations (4) through (8) and (13), and Recordkeeping and Reporting (16) through (18).

(e) Nonregulatory

Vermont Non Regulatory
Name of non regulatory SIP provision | Applicable geographic or nonattainment area | State submittal date/effective date | EPA Approved date | Explanations
* * * * * * *
Reasonably Available Control Technology State Implementation Plan (SIP)/certification for the 1997 8-hour Ozone National Ambient Air Quality Standard | Statewide | Submitted 11/14/2008 | 7/19/2011 [Insert Federal Register page number where the document begins] |
SIP narrative associated with 5-253.16 wood furniture manufacturing regulation | Statewide | Submitted 11/22/2006 | 7/19/2011 [Insert Federal Register page number where the document begins] |

[FR Doc. 2011-17875 Filed 7-18-11; 8:45 am]

BILLING CODE 6560-50-P